DEPARTMENT OF COMMERCE

Foreign-Trade Zones Board

[S-137-2024]

Approval of Subzone Status; Willow Glen Terminal LLC; Saint Gabriel, Louisiana

On August 1, 2024, the Executive Secretary of the Foreign-Trade Zones (FTZ) Board docketed an application submitted by the Port of Greater Baton Rouge, grantee of FTZ 154, requesting subzone status subject to the existing activation limit of FTZ 154, on behalf of Willow Glen Terminal LLC, in Saint Gabriel, Louisiana.

The application was processed in accordance with the FTZ Act and Regulations, including notice in the Federal Register inviting public comment (89 FR 63916, August 6, 2024). The FTZ staff examiner reviewed the application and determined that it meets the criteria for approval. Pursuant to the authority delegated to the FTZ Board Executive Secretary (15 CFR 400.36(f)), the application to establish Subzone 154D was approved on September 18, 2024, subject to the FTZ Act and the Board's regulations, including section 400.13, and further subject to FTZ 154's 2,000-acre activation limit.

Dated: September 18, 2024.
Elizabeth Whiteman,
Executive Secretary.

[FR Doc. 2024-21726 Filed 9-23-24; 8:45 am]

BILLING CODE 3510-DS-P